DEPARTMENT OF VETERANS AFFAIRS

Enhanced-Use Lease of Department of Veterans Affairs Real Property for the Development of Permanent Supportive Housing at the Veterans Affairs Palo Alto Health Care System—Menlo Park Division, Menlo Park, California Campus

AGENCY: Department of Veterans Affairs.

ACTION: Notice of intent to enter into an enhanced-use lease.

SUMMARY: The purpose of this Federal Register notice is to provide the public with notice that the Secretary of the Department of Veterans Affairs (VA) intends to enter into an enhanced-use lease (EUL) of approximately 2.1 acres of underutilized land on the campus of the VA Palo Alto Health Care System—Menlo Park Division.

FOR FURTHER INFORMATION CONTACT: C. Brett Simms, Executive Director, Office of Asset Enterprise Management, Office of Management, 810 Vermont Avenue NW, Washington, DC 20420, 202-632-7092. This is not a toll-free number.

SUPPLEMENTARY INFORMATION: Pursuant to 38 U.S.C. 8161, et seq. as amended by Public Law 117-168, the Secretary of VA is authorized to enter into an EUL for a term of up to 99 years, that (a) provides supportive housing for Veterans and their families, or (b) enhances the use of the leased property by directly or indirectly benefitting Veterans. Additionally, the EUL must not be inconsistent with and not adversely affect the mission of VA or the operation of VA's facilities, programs, and services in the area of the leased property. Consistent with this authority, the Secretary of VA intends to enter into an EUL for the purpose of outleasing approximately 2.1 acres of underutilized land on the campus of the VA Palo Alto Health Care System—Menlo Park Division, to develop approximately 60 units of permanent supportive housing for Veterans and their families and 2 manager units. The competitively selected EUL lessee/developer, MP Oak Gardens Associates, L.P., will finance, design, develop, construct, manage, maintain, and operate housing for eligible homeless Veterans or Veterans at risk of homelessness on a priority placement basis. In addition, the lessee/developer will be required to provide supportive services that guide Veteran residents towards long-term independence and self-sufficiency.

Signing Authority

Denis McDonough, Secretary of Veterans Affairs, approved and signed this document on September 23, 2024, and authorized the undersigned to sign and submit the document to the Office of the Federal Register for publication electronically as an official document of the Department of Veterans Affairs.

Luvenia Potts,
Regulation Development Coordinator, Office of Regulation Policy & Management, Office of General Counsel, Department of Veterans Affairs.

[FR Doc. 2024-22184 Filed 9-26-24; 8:45 am]

BILLING CODE 8320-01-P